DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of August, 2000.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-37,744; Sommers, Inc., Sommers Ribbon Co., Stroudsburg, PA

TA-W-37,728; Hill Knitting Mills, Richmond Hill, NY

TA-W-37,600; Trinity Industries, Inc., Mt. Orab, OH

TA-W-37,828; Johnstown Corp., Johnstown, PA

TA-W-37,863; Morton Forest Products, a/k/a Tree Source, Morton, WA

TA-W-37,439; National Ceramics, Inc., Ceramic Fashions, Inc., Cunningham, KY

TA-W-37,780; Memphis Chair Co., Gainesboro, TN

TA-W-37,797; Craft Houses International, Inc., Kalkaska, MI

TA-W-37,884; Rycraft, Inc., Corvallis, OR

In the following cases, the investigation revealed that the criteria for eligibility have not been met for the reasons specified.

TA-W-37,920; Chic-A-Dee Packing Corp., Monmouth ME

TA-W-37,921 & A; ACS Shared Service, Inc., Berea, KY and Richmond, KY

TA-W-37,812; Amway Corp., Buy-Out Quality Assurance, Ada, MI

TA-W-37,818; ARCO Marine, Inc., Long Beach, CA

TA-W-37,908; Sweatt Industries, d/b/a Sentry Service, Odessa, TX

TA-W-37,943; Ryan International Airlines, Denver, CO

TA-W-37,829; Bucilla Corp., Hazleton, PA

TA-W-37,951; William Energy Service Co., Houston, TX

TA-W-37,768; Big B Valve Repair and Service, Inc., Laurel, MS

TA-W-37,817; DHL Worldwide Express, Houston, TX

The workers firm does not produce an article as required for certification under Section 222 of the Trade Act of 1974.

TA-W-37,824; Avian Farms International, Inc., Waterville, MI

TA-W-37,879; Beaulieu of America, Hollytex Div., Anadarko, OK

TA-W-37,905; Cooper Industries, Lighting Div., Elk Grove Village, IL

TA-W-37,805; Eastern Tool and Die, Inc., Newington, CT

TA-W-37,914; Joseph Timber Co LLC, Joseph, OR

TA-W-37,901; Oxo Welding Equipment Co., Troy, OH

TA-W-37,676; Schreiber Foods, Inc., Monroe, WI

TA-W-37,857; Optimum Air Corp., Malta, NY

TA-W-37,877; Swiss Maid, Inc., Greentown, PA

TA-W-37,742B; Key Industries, Inc., Quilting Div., Buffalo, NY

TA-W-37,900 & A, B, C; Oxy USA, Inc., Houston, TX, Aransas Pas, TX, Liberal, KS and Venice, LA

TA-W-37,745 & A; Louisiana Pacific Corp., Ketchikan Pulp Co., Ketchikan Sawmill, Ketchikan, AK and Timber Div., Prince of Wales Island, AK

Increased imports did not contribute importantly to worker separations at the firm.

TA-W-37,890; Thomson Consumer Electronics, Dunmore, PA

The investigation revealed that criteria (2) has not been met. Sales or production, or both, did not decline during the relevant period as required for certification.

TA-W-37,777; Pearl Brewing Co., San Antonio, TX

The investigation revealed that criteria (2) and criteria (3) have not been met. Sales or production did not decline during the relevant period as required for certification. Increases of imports of articles like or directly competitive.

Affirmative Determinations for Worker Adjustment Assistance

The following certifications have been issued; the date following the company name and location of each determination references the impact date for all workers of such determination.

TA-W-37,930; The Stanleyworks, Hardware Plant, Richmond, VA: July 25, 1999

TA-W-37,882; Walpole, Inc., A Div. of Marion Technologies, Inc., Mt. Holly, NJ: June 30, 1999

TA-W-37,947; Charles Craft, Inc., Wadesboro Plant, Wadesboro, NC: July 25, 1999

TA-W-37,823; Carleton Woolen Mills, Inc., Winthrop, ME: July 23, 2000

TA-W-37,927; Deka Medical, Triad Div., Waynesville, NC: July 31, 1999

TA-W-37,936; Allied Signal/Honeywell Specialty Chemicals, Smethport, PA: July 20, 1999

TA-W-37,816; Multiplex Technology, Inc., Brea, CA: June 13, 1999

TA-W-37,832; Nestaway Corp., Cleveland, OH: June 22, 1999

TA-W-37,842; Siemens, Norwood, OH: June 14, 1999

TA-W-37,810; Buckeye Apparel, Coldwater, OH: June 2, 1999

TA-W-37,864; Weinmann, Inc., Olney, IL: June 22, 1999

TA-W-37,924; Banta Healthcare Group, Eaton Park, FL: July 17, 1999

TA-W-37,851; J. Angela Dress Corp., Brooklyn, NY: June 19, 1999

TA-W-37,751; Hoff Forest Products, Meridian, ID: May 24, 1999

TA-W-37,736; Transsouthern Leasing, a/k/a Dallas Manufacturing, Selma, AL: May 15, 1999

TA-W-37,853; VF Workwear, Inc., Bassville, MS: June 22, 1999

TA-W-37,918; Trans Regional Manufacturing Co., Inc., Blackville SC: June 15, 1999

TA-W-37,897; Osram Sylvania, St. Marys, PA: July 12, 1999.

TA-W-37,912; Aquatech, Inc., McMinnville, TN: July 6, 1999.

TA-W-37,748; Coats North America, Anniston, AL: May 23, 1999.

TA-W-37,888; Federal Mogul Wiper Products, Michigan City, IN: July 6, 1999.

TA-W-37,790; Empire Steel Castings, Inc., Reading, PA: June 5, 1999.

TA-W-37,874; Frink America, Inc., Clayton, NY: June 15, 1999

TA-W-37,705; Competitive Engineering, Inc., Tucson, AZ: May 5, 1999.

TA-W-37,695; Ryan Press, Ogdensburg, NY: April 27, 1999.

TA-W-37,742 and A; Key Industries, Inc., Fort Scott, KS and Hermitage, MO: May 22, 1999.

TA-W-37,792; Southwire Co., Smelter and Tankhouse, Carrollton, GA: May 23, 1999.

TA-W-37,849; Seagate Technology, Inc., Research and Design Center, Oklahoma City, OK: June 26, 1999

TA-W-37,772; Tech Center Manufacturing, Goodyear Tire and Rubber, Akron, OH: June 5, 1999.

TA-W-37,902; Toastmater, Ingraham Time Products Div., Laurinburg, NC: July 7, 1999.

TA-W-37,795; Arlington Apparel Co-Op, LLC, Arlington, GA: June 2, 1999.

TA-W-37,872; Chipman-Union, Inc., Belmont, NC: June 28, 1999.

TA-W-37,773; Alfa Laval Separation, Inc., Warminster, PA: August 4, 2000.

TA-W-37,767; Ingersoll-Rand Co., Rock Drill Div., Roanoke, VA: May 26, 1999.

TA-W-37,848; Genicom Corp., Temple, TX: June 16, 1999.

TA-W-37,875; Personal Products Co., Wilmington, IL: June 28, 1999

TA-W-37,793; Hitachi Koki Imaging Solutions, Inc., (Formerly Known as Data Products), Simi Valley, CA: June 2, 1999.

TA-W-37,839; Congoleum Corp., Trainer, PA: June 15, 1999.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of August, 2000.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases in imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm the Canada or Mexico during the relevant period.

NAFTA-TAA-03950; Pearl Brewing Co., San Antonio, TX

NAFTA-TAA-03980; Morton Forest Products, a/k/a Tree Source, Morton, WA

NAFTA-TAA-04020; Thomson Consumer Electronics, Inc., A.T.O Div., Dunmore, PA

NAFTA-TAA-04059; Beaulieu of America, Hollytex Div., Anadarko, OK

NAFTA-TAA-03998, Trinity Industries, Inc., Mt. Orab, OH

NAFTA-TAA-04003; Wallowa Forest Products, Wallowa, OR

NAFTA-TAA-03965; Memphis Chair Co., Gainesboro, TN

NAFTA-TAA-03978 & A; Key Industries, Inc., Quilting Dept., Buffalo, MO and Hermitage, MO

NAFTA-TAA-04007; Key Industries, Inc., Fort Scott, KS

NAFTA-TAA-04042; Joseph Timber Co., LLC, Joseph, OR

NAFTA-TAA-03970; Craft House International, Inc., Kalkaska, MI

NAFTA-TAA-04058; Cloverland Manufacturing, Inc., Escanaba, MI

NAFTA-TAA-03902; Berstone Knitting Mills, Brooklyn, NY

NAFTA-TAA-04053; Ochoco Lumber Co., Prineville, OR

NAFTA-TAA-04005; Graphic Vinyl Products, Inc., Newark, NJ

The investigation revealed that the criteria for eligibility have not been met for the reasons specified.

NAFTA-TAA-4052; Chief Tonasket Growers, Tonasket, WA

NAFTA-TAA-04091; Humpty Dumpty Snack Foods USA, Inc., Scarborough, ME

The investigation revealed that workers of the subject firm did not produce an article within the meaning of Section 250 (a) of the Trade Act, as amended.

Affirmative Determinations NAFTA-TAA

NAFTA-TAA-04021; Cooper Industries, Lighting Div., Elk Grove Village, IL: July 10, 1999.

NAFTA-TAA-04010; Personal Products Co., Wilmington, IL: June 28, 1999.

NAFTA-TAA-03982; Friedman Bag Co., Textile Div., Portland, OR: June 19, 1999.

NAFTA-TAA-04012; Walpole, Inc., A Div. of Marino Technologies, Inc., Mt. Holly, NJ: June 30, 1999.

NAFTA-TAA-04056; Medical Parameters, Inc., d/b/a Arrow/Walrus, Woburn, MA: July 24, 1999.

NAFTA-TAA-04092; Ledalite Architectural Products, Genlyte-Thomas Group, Kent, WA: August 9, 1999.

NAFTA-TAA-04030; C and M Corp., Wauregan, CT: July 13, 1999.

NAFTA-TAA-4044; Tri State Data Products, Feasterville, PA: July 24, 1999.

NAFTA-TAA-04054; Victor Equipment Co., Abilene, TX: August 3, 1999.

NAFTA-TAA-04078; Wolverine Worldwide, Inc., Kirksville, MO: July 17, 1999.

I hereby certify that the aforementioned determinations were issued during the month of August, 2000. Copies of these determinations are available for inspection in Room C-5311, U.S. Department of Labor, 200 Constitution Avenue, N.W., Washington, D.C. 20210 during normal business hours or will be mailed to persons who write to the above address.

Dated: September 5, 2000.
Edward A. Tomchick,
Director, Division of Trade Adjustment Assistance.

[FR Doc. 00-23344 Filed 9-11-00; 8:45 am]

BILLING CODE 4510-30-M